DEPARTMENT OF HEALTH AND HUMAN SERVICES

Centers for Medicare & Medicaid Services

[Document Identifier: CMS-10003]

Public Information Collection Requirements Submitted to the Office of Management and Budget (OMB); Correction

AGENCY: Centers for Medicare & Medicaid Services (CMS), HHS.

ACTION: Correction of notice.

SUMMARY: This document corrects a technical error in the notice [Document Identifier: CMS-10003] entitled “Notice of Denial of Medical Coverage (or Payment)” that was published in the July 6, 2012 (77 FR 40064) Federal Register.

FOR FURTHER INFORMATION CONTACT: William Parham, (410) 786-4669.

SUPPLEMENTARY INFORMATION:

I. Background

In the FR Doc. 2012-16514 of July 6, 2012 (77 FR 40064), we published a Paperwork Reduction Act notice requesting a 60-day public comment period for the document entitled “Notice of Denial of Medical Coverage (or Payment).”

In the July 6, 2012 notice, we listed the incorrect contact information. Therefore, we are correcting that error in this notice.

II. Correction of Error

In FR Doc. 2012-16514 of July 6, 2012 (77 FR 40064), make the following correction:

On page 40068, first column, fourth full paragraph, on the fifteenth line in the paragraph beginning with “(For policy questions regarding, ” and ending with, “410-786-0273),” is corrected to read as follows.

“(For policy questions regarding this collection contact Kathryn McCann Smith at 410-786-7623.)”

Dated: August 22, 2012.
Martique Jones,
Director, Regulations Development Group, Division B, Office of Strategic Operations and Regulatory Affairs.

[FR Doc. 2012-21076 Filed 8-23-12; 11:15 am]

BILLING CODE 4120-01-P